DEPARTMENT OF ENERGY

Western Area Power Administration

2025 Resource Pool—Loveland Area Projects, Proposed Power Allocation

AGENCY: Western Area Power Administration, DOE.

ACTION: Notice of proposed power allocation.

SUMMARY: Western Area Power Administration (WAPA), a Federal Power Marketing Administration of the Department of Energy (DOE), announces its Loveland Area Projects (LAP) 2025 Resource Pool proposed power allocation. WAPA developed the proposed power allocation under its LAP 2025 Power Marketing Initiative (2025 PMI), as published in the Federal Register on December 30, 2013.

DATES: The comment period on this Notice of proposed power allocation begins April 26, 2022 and ends at 4:00 p.m., MDT, on June 10, 2022. WAPA will accept comments by email or delivered by U.S. mail. WAPA reserves the right not to consider comments received after the prescribed date and time.

A single public information and comment forum (not to exceed three hours) about the proposed power allocation will be held on Monday, May 23, 2022, at 1:30 p.m., MDT. WAPA will hold the public information and comment forum online. The comment forum will begin immediately following the conclusion of the information forum. The forum will be accessible 15 minutes in advance of the start time by copying and pasting the following link into a web browser: https://teams.microsoft.com/l/meetup-join/19%3ameeting_ZjA2YTE1NjMtMmI2ZC00MGIyLWE2NWItNjVkMTY2NWJhMzE5%40thread.v2/0?context=%7b%22Tid%22%3a%2231ae220f-b94f-463a-9cfd-15bbc9909df5%22%2c%22Oid%22%3a%22840a7135-304c-46b4-bb91-183fb9ec6880%22%7d.

ADDRESSES: Send written comments to Barton V. Barnhart, Regional Manager, Rocky Mountain Region, Western Area Power Administration, 5555 East Crossroads Boulevard, Loveland, CO 80538-8986. If submitting comments electronically, please email to Parker Wicks, Contracts and Energy Services Manager, Rocky Mountain Region, Western Area Power Administration, at pwicks@wapa.gov. Comments must be received by WAPA within the time required in the DATES section. Information about the 2025 Resource Pool, including allocation procedures, is available on WAPA-RMR's website at: https://www.wapa.gov/regions/RM/PowerMarketing/Pages/2025-Loveland-Area-Projects-Resource-Pool.aspx.

FOR FURTHER INFORMATION CONTACT: Parker Wicks, Contracts and Energy Services Manager, Rocky Mountain Region, Western Area Power Administration, (970) 461-7202, email pwicks@wapa.gov.

SUPPLEMENTARY INFORMATION: The 2025 PMI, as published in the Federal Register December 30, 2013 (78 FR 79444), provides the basis for marketing the LAP long-term firm hydroelectric resource beginning October 1, 2024, through September 30, 2054. The 2025 PMI established three resource pools available for reallocation to eligible new preference entities. Reallocations will occur at the beginning of the October 1, 2024, contract term and again every 10 years thereafter on October 1, 2034, and October 1, 2044. Each resource pool contains up to one percent of the marketable resource under contract, at that time.

WAPA notified the public of the 2025 Resource Pool allocation procedures, including the General Eligibility Criteria, and called for applications in the Federal Register on September 20, 2021 (86 FR 52145). WAPA accepted applications until 4:00 p.m., MST, November 15, 2021. Review of those applications resulted in this Notice of proposed power allocation.

WAPA seeks comments relevant to the proposed power allocation during the comment period. After considering public comments received, WAPA will publish the Final Power Allocation in the Federal Register.

I. 2025 Pool Resources

WAPA will allocate up to one percent of the LAP long-term firm hydroelectric resource available as of October 1, 2024. The amount of the resource that will become available on October 1, 2024, is approximately 6.9 megawatts (MW) for the summer season and 6.1 MW for the winter season. The 2025 Resource Pool will be created by reducing existing customers' allocation by up to one percent.

II. Proposed Power Allocation

In response to WAPA's allocation procedures and call for applications (86 FR 52145), WAPA received 13 applications for the 2025 Resource Pool. WAPA determined that one applicant did not meet the General Eligibility Criteria and therefore was ineligible to receive an allocation. The resource pool will be allocated proportionately by season to the 12 qualified allottees based on average seasonal loads for calendar year 2020. The proposed allocations for the 12 qualified allottees, shown in the table below, are based on the LAP marketable resource currently available and are subject to the minimum (100 kilowatts) and maximum (5,000 kilowatts) allocation criteria. If the LAP marketable resource is adjusted in the future, all allocations may be adjusted accordingly.

Allottees | Proposed LAP 2025 resource pool power allocation: Summer kilowatt-hours | Proposed LAP 2025 resource pool power allocation: Winter kilowatt-hours | Proposed LAP 2025 resource pool power allocation: Summer kilowatts | Proposed LAP 2025 resource pool power allocation: Winter kilowatts
City of Alma, KS | 1,641,046 | 1,174,939 | 1,003 | 781
City of Blue Mound, KS | 219,242 | 176,015 | 134 | 117
Buckley Space Force Base, CO | 4,198,329 | 3,598,531 | 2,566 | 2,392
City of Elwood, KS | 921,145 | 648,398 | 563 | 431
City of Luray, KS | 214,334 | 156,458 | 131 | 104
City of Montezuma, KS | 1,353,086 | 1,036,534 | 827 | 689
City of Morrill, KS | 163,614 | 150,440 | 100 | 100
Village of Paxton, NE | 595,554 | 570,169 | 364 | 379
City of Prescott, KS | 163,614 | 150,440 | 100 | 100
City of Robinson, KS | 163,614 | 150,440 | 100 | 100
Village of Trenton, NE | 571,012 | 532,559 | 349 | 354
City of Wathena, KS | 1,097,848 | 761,228 | 671 | 506
Total 2025 Resource Pool | 11,302,438 | 9,106,151 | 6,908 | 6,053

All of the 12 qualified allottees reside beyond the boundary of WAPA's LAP transmission system. As a result, delivery of the allocation will require each allottee to obtain additional transmission arrangements, acceptable to WAPA, for delivery of the proposed power allocation to the allottee's point of delivery.

By June 1, 2024, each allottee must have firm delivery arrangements in place to be effective October 1, 2024, unless otherwise agreed to in writing by WAPA. WAPA must receive a letter of commitment from each allottee's serving utility or transmission provider by June 1, 2024, confirming the allottee will be able to receive the benefit of WAPA's 2025 Resource Pool. If WAPA does not receive a commitment letter by June 1, 2024, unless otherwise agreed in writing by WAPA, WAPA will withdraw its offer of an allocation.

III. Regulatory Procedure Requirements

A. Review Under the National Environmental Policy Act (NEPA)

WAPA has determined this action fits within the following categorical exclusion listed in appendix B to subpart D of 10 CFR part 1021.B4.1 (Contracts, policies, and marketing and allocation plans for electric power). Categorically excluded projects and activities do not require preparation of either an environmental impact statement or an environmental assessment.¹ Specifically, WAPA has determined this rulemaking is consistent with activities identified in part B4, Categorical Exclusions Applicable to Specific Agency Actions (see 10 CFR part 1021, appendix B to subpart D, part B4). A copy of the categorical exclusion determination is available on WAPA-RMR's website at: https://www.wapa.gov/regions/RM/environment/Pages/CX2021.aspx. Look for the file entitled “2021-091 LAP 2025 Resource Pool CX.”

¹ The determination was done in compliance with NEPA (42 U.S.C. 4321-4347); the Council on Environmental Quality Regulations for implementing NEPA (40 CFR parts 1500-1508); and DOE NEPA Implementing Procedures and Guidelines (10 CFR part 1021).

B. Review Under Paperwork Reduction Act

In accordance with the Paperwork Reduction Act (44 U.S.C. 3501 et seq.), WAPA has received approval from the Office of Management and Budget for the collection of customer information in this rule, under OMB control number 1910-5136.

C. Determination Under Executive Order 12866

WAPA has an exemption from centralized regulatory review under Executive Order 12866; accordingly, no clearance of this notice by the Office of Management and Budget is required.

Signing Authority

This document of the Department of Energy was signed on April 5, 2022, by Tracey A. LeBeau, Administrator, Western Area Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 21, 2022.
Treena V. Garrett,
Federal Register Liaison Officer, U.S. Department of Energy.

[FR Doc. 2022-08861 Filed 4-25-22; 8:45 am]

BILLING CODE 6450-01-P